DEPARTMENT OF COMMERCE

International Trade Administration

[A-533-817, A-560-805, A-580-836]

Certain Cut-to-Length Carbon-Quality Steel Plate From India, Indonesia, and the Republic of Korea: Final Results of the Expedited Fourth Sunset Reviews of the Antidumping Duty Orders

AGENCY: Enforcement and Compliance, International Trade Administration, Department of Commerce.

SUMMARY: As a result of these sunset reviews, the U.S. Department of Commerce (Commerce) finds that revocation of the antidumping duty (AD) orders on certain cut-to-length carbon-quality steel plate (CTL plate) from India, Indonesia, and the Republic of Korea (Korea) would be likely to lead to continuation or recurrence of dumping at the levels indicated in the “Final Results of Sunset Reviews” section of this notice.

DATES: Applicable June 5, 2023.

FOR FURTHER INFORMATION CONTACT: Nathan Araya, AD/CVD Operations, Office II, Enforcement and Compliance, International Trade Administration, U.S. Department of Commerce, 1401 Constitution Avenue NW, Washington, DC 20230; telephone: (202) 482-3401.

SUPPLEMENTARY INFORMATION:

Background

On February 1, 2023, Commerce published the notice of initiation of the fourth sunset reviews of the Orders,¹ pursuant to section 751(c)of the Tariff Act of 1930, as amended (the Act).² After the publication of the Initiation Notice, Commerce received notices of intent to participate from Cleveland-Cliffs Inc. (Cleveland-Cliffs), Nucor Corporation (Nucor), and SSAB Enterprises LLC (SSAB) (collectively, the domestic interested parties) within the deadline specified in 19 CFR 351.218(d)(1)(i).³ The domestic interested parties claimed interested party status under section 771(9)(C) of the Act as domestic producers engaged in the production of CTL plate in the United States.

¹ See Notice of Amendment of Final Determinations of Sales at Less Than Fair Value and Antidumping Duty Orders: Certain Cut-To-Length Carbon-Quality Steel Plate Products from France, India, Indonesia, Italy, Japan, and the Republic of Korea, 65 FR 6585 (February 10, 2000) (collectively, Orders).

² See Initiation of Five-Year (“Sunset”) Reviews, 88 FR 6700 (February 1, 2023) (Notice of Initiation).

³ See SSAB's Letter, “Notice of Intent to Participate in the Fourth Five-Year Review of the Antidumping Duty Order on Certain Cut-to-Length Carbon-Quality Steel Plate from Indonesia,” dated February 7, 2023; see also Cleveland-Cliffs' Letter, “Five-Year (“Sunset”) Reviews of Antidumping and Countervailing Duty Orders on Certain Cut-to-Length Carbon-Quality Steel Plate from India, Indonesia, and Korea: Notice of Intent to Participate in Sunset Reviews,” dated February 9, 2023; and Nucor's Letter, “Certain Cut-to-Length Carbon-Quality Steel Plate from Indonesia: Notice of Intent to Participate in Sunset Review,” dated February 15, 2023.

Commerce received substantive responses from the domestic interested parties within the 30-day deadline specified in 19 CFR 351.218(d)(3)(i).⁴ We did not receive a substantive response from any other interested party in these proceedings, and no party requested a hearing.

⁴ See Domestic Interested Parties Letters, “Five-Year (“Sunset”) Review of Antidumping Duty Order on Certain Cut-to-Length Carbon-Quality Steel Plate from Indonesia: Domestic Industry Substantive Response,” dated February 27, 2023; “Certain Cut-to-Length Carbon-Quality Steel Plate from the Republic of Korea: Substantive Response to Notice of Initiation of Sunset Review,” dated March 2, 2023; and “Fourth Five-Year (“Sunset”) Review of the Antidumping Duty Order on Certain Cut-to-Length Carbon-Quality Steel Plate from India: Domestic Interested Parties' Substantive Response,” dated March 3, 2023.

On March 23, 2023, Commerce notified the U.S. International Trade Commission that it did not receive an adequate substantive response from respondent interested parties.⁵ As a result, pursuant to section 751(c)(3)(B) of the Act and 19 CFR 351.218(e)(1)(ii)(C)(2), Commerce conducted expedited (120-day) sunset reviews of these Orders.

⁵ See Commerce's Letter, “Sunset Reviews initiated on February 1, 2023,” dated March 23, 2023.

Scope of the Orders

The products covered by the Orders are certain hot-rolled carbon-quality steel. For a complete description of the scope of these Orders, see the Issues and Decision Memorandum.⁶

⁶ See Memorandum, “Decision Memorandum for the Final Results of Expedited Fourth Sunset Reviews of the Antidumping Duty Orders on Certain Cut-to-Length Carbon-Quality Steel Plate from India, Indonesia, and the Republic of Korea,” dated concurrently with, and hereby adopted by, this notice (Issues and Decision Memorandum).

Analysis of Comments Received

All issues raised in these sunset reviews are addressed in the Issues and Decision Memorandum.⁷ A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx./.

⁷ Id.

Final Results of Sunset Reviews

Pursuant to sections 751(c)(1) and 752(b) of the Act, Commerce determines that revocation of the Orders would be likely to lead to the continuation or recurrence of dumping, and that the magnitude of the margins of dumping likely to prevail would be weighted-average margins up to the following percentages:

Country | Weighted- average dumping margin (percent)
India | 42.39
Indonesia | 52.42
Korea | 6.09

Administrative Protective Order

This notice serves as the only reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation that is subject to sanction.

Notification to Interested Parties

We are issuing and publishing this notice in accordance with sections 751(c), 752(b), and 777(i)(1) of the Act.

Dated: May 26, 2023.
Lisa W. Wang,
Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely To Prevail

VII. Final Results of Sunset Reviews

VIII. Recommendation

[FR Doc. 2023-11841 Filed 6-2-23; 8:45 am]

BILLING CODE 3510-DS-P